DEPARTMENT OF ENERGY

Federal Energy Regulatory Commission

[Project No. 2622-013]

Turners Falls Hydro, LLC; Notice of Application Ready for Environmental Analysis and Soliciting Comments, Terms and Conditions, Recommendations, and Prescriptions

Take notice that the following hydroelectric application has been filed with the Commission and is available for public inspection.

a. Type of Application: Subsequent Minor License.

b. Project No.: 2622-013.

c. Date filed: February 4, 2019.

d. Applicant: Turners Falls Hydro, LLC (Turners Falls Hydro).

e. Name of Project: Turners Falls Project.

f. Location: On the Connecticut River, in the power canal of the Turners Falls Hydroelectric Project No. 1889, in Franklin County, Massachusetts. No federal lands are occupied by the project works or located within the project boundary.

g. Filed Pursuant to: Federal Power Act 16 U.S.C. 791(a)-825(r).

h. Applicant Contact: Mr. Michael Scarzello, Director, Eagle Creek Renewable Energy, LLC, 65 Madison Avenue, Suite 500, Morristown, NJ 07960; Phone at (973) 998-8400, or email at michael.scarzello@eaglecreekre.com.

i. FERC Contact: Amanda Gill, (202) 502-6773 or amanda.gill@ferc.govj.

Deadline for filing comments, recommendations, terms and conditions, and prescriptions: 60 days from the issuance date of this notice; reply comments are due 105 days from the issuance date of this notice.

All filings must (1) bear in all capital letters the title “COMMENTS,” “REPLY COMMENTS,” “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed in the service list prepared by the Commission in this proceeding, in accordance with 18 CFR 4.34(b) and 385.2010.

The Commission strongly encourages electronic filing. Please file comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2622-013.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is ready for environmental analysis at this time.

l. Project Description: The proposed Turners Falls Project would consist of: (1) An existing 10-foot-long, 20-foot-wide, 12- to 22-foot-high forebay; (2) a 20-foot-wide, 22-foot-high trashrack with 1.5-inch clear-bar spacing; (3) two 9.75-foot-wide, 10.3-foot-high headgates; (4) an 8.5-foot-diameter, 50-foot-long steel penstock; (5) a 77-foot-long, 42-foot-wide powerhouse containing one 937-kilowatt vertical Francis-type turbine-generator unit; (6) a 50-foot-long, 10-foot-diameter draft tube; (7) an 80-foot-long, 10-foot-wide tailrace; (8) a 110-foot-long, 2.3-kilovolt generator lead line that connects the generator to a step-up transformer; (9) and appurtenant facilities.

When generating, the project withdraws up to 289 cubic feet per second from FirstLight Hydro Generating Company's power canal for the Turners Falls Hydroelectric Project No. 1889, and discharges directly into the Connecticut River. Turners Falls Hydro operates the project in a run-of-river mode with an average annual generation of approximately 1,512 megawatt-hours. Turners Falls Hydro proposes to continue operating the project in a run-of-river mode and does not propose any new construction or modifications to the project.

m. A copy of the license application is available for review at the Commission in the Public Reference Room or may be viewed on the Commission's website (http://www.ferc.gov), using the “eLibrary” link. Enter the docket number, excluding the last three digits in the docket number field to access the document (P-2622). For assistance, contact FERC Online Support. A copy is also available for inspection and reproduction at the Montague Public Library, Carnegie Library Branch located at 201 Avenue A, Turners Falls, MA 01376.

You may also register online at http://www.ferc.gov/docs-filing/esubscription.asp to be notified via email of new filings and issuances related to this or other pending projects. For assistance, contact FERC Online Support.

Procedural Schedule: The application will be processed according to the following schedule. Revisions to the schedule will be made as appropriate.

Milestone | Target date
Filing of comments, recommendations, terms and conditions, and preliminary fishway prescriptions | November 2019.
Commission issues Environmental Assessment | April 2020.
Comments on Environmental Assessment | May 2020.

Final amendments to the application must be filed with the Commission no later than 30 days from the issuance date of this notice.

n. A license applicant must file no later than 60 days following the date of issuance of this notice: (1) A copy of the water quality certification; (2) a copy of the request for certification, including proof of the date on which the certifying agency received the request; or (3) evidence of waiver of water quality certification.

Dated: September 30, 2019.
Kimberly D. Bose,
Secretary.

[FR Doc. 2019-21674 Filed 10-3-19; 8:45 am]

BILLING CODE 6717-01-P